DEPARTMENT OF ENERGY

Federal Energy Regulatory Commission

Combined Notice of Filings #1

Take notice that the Commission received the following electric corporate filings:

Docket Numbers: EC21-55-000.

Applicants: Altamont Winds LLC.

Description: Application for Authorization Under Section 203 of the Federal Power Act of Altamont Winds LLC.

Filed Date: 02/22/2021.

Accession Number: 20210222-5229.

Comment Date: 5 p.m. ET 3/15/21.

Take notice that the Commission received the following electric rate filings:

Docket Numbers: ER20-945-003.

Applicants: Southwest Power Pool, Inc.

Description: Southwest Power Pool, Inc. submits tariff filing per 35: Compliance Filing Revising Tariff in Response to February 18 Order to be effective 4/4/2020.

Filed Date: 02/23/2021.

Accession Number: 20210223-5053.

Comment Date: 5 p.m. ET 3/16/21.

Docket Numbers: ER21-714-001.

Applicants: Indiana Crossroads Wind Farm LLC.

Description: Indiana Crossroads Wind Farm LLC submits tariff filing per 35.17(b): Supplement to Market-Based Rate Application and Revised MBR Tariff to be effective 2/21/2021.

Filed Date: 02/19/2021.

Accession Number: 20210219-5095.

Comment Date: 5 p.m. ET 2/26/21.

Docket Numbers: ER21-816-001.

Applicants: ISO New England Inc.

Description: ISO New England Inc. submits tariff filing per 35.17(b): Amendment to Information Disclosure Req. under the FAP in Docket No.ER21-816 to be effective 3/9/2021.

Filed Date: 02/23/2021.

Accession Number: 20210223-5012.

Comment Date: 5 p.m. ET 3/1/21.

Docket Numbers: ER21-1194-000.

Applicants: Pacific Gas and Electric Company.

Description: Pacific Gas and Electric Company submits tariff filing per 35.15: PWRPA SA 30 Termination of Rough and Ready SA to be effective 3/1/2021.

Filed Date: 02/23/2021.

Accession Number: 20210223-5000.

Comment Date: 5 p.m. ET 3/16/21.

Docket Numbers: ER21-1195-000.

Applicants: American Transmission Systems, Incorporated, PJM Interconnection, L.L.C.

Description: American Transmission Systems, Incorporated submits tariff filing per 35.13(a)(2)(iii): ATSI submits Two ECSAs, SA Nos. 5916 and 5922 to be effective 4/25/2021.

Filed Date: 02/23/2021.

Accession Number: 20210223-5081.

Comment Date: 5 p.m. ET 3/16/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 23, 2021.
Kimberly D. Bose,
Secretary.

[FR Doc. 2021-04141 Filed 2-26-21; 8:45 am]

BILLING CODE 6717-01-P